DEPARTMENT OF LABOR

Mine Safety and Health Administration

Petitions for Modification

The following parties have filed petitions to modify the application of existing safety standards under section 101(c) of the Federal Mine Safety and Health Act of 1977 and 30 CFR part 44.

1. Wabash Mine Holding Company

[Docket No. M-2006-043-C]

Wabash Mine Holding Company, Three Gateway Center, Suite 1340, 401 Liberty Avenue, Pittsburgh, Pennsylvania 15222 has filed a petition to modify the application of 30 CFR 75.364(b)(2) (Weekly examination) to its Wabash Mine, Old B-1/Fault Crossing Area of the Mine (MSHA I.D. No. 11-00877) located in Wabash County, Illinois. The petitioner requests a modification of the existing standard to permit an alternative method of complying with the examination requirement due to deteriorating roof conditions in the abandoned old B1 panel area. The petitioner proposes to: (1) Establish an inlet evaluation point in the affected area of the mine as “Intake EP,” which will be evaluated by a certified person on a weekly basis; (2) establish an outlet evaluation point in the affected area as “Outlet EP,” which will be evaluated by a certified person on a weekly basis; and (3) within 60 days submit revisions of its Part 48 training plan to the District Manager that includes initial and refresher training to comply with the final order. The petitioner states that the proposed alternative method of compliance provides a measure of protection equal to that of the standard. The petitioner also states that traveling the affected area of the air courses in their entirety would present a hazard to the miners because of exposure to the deteriorating roof conditions and limited access and result in a diminution of safety.

2. Wabash Mine Holding Company

[Docket No. M-2006-044-C]

Wabash Mine Holding Company, Three Gateway Center, Suite 1340, 401 Liberty Avenue, Pittsburgh, Pennsylvania 15222 has filed a petition to modify the application of 30 CFR 75.364(b)(2) (Weekly examination) to its Wabash Mine, 1N/3W Area of the Mine (MSHA I.D. No. 11-00877) located in Wabash County, Illinois. The petitioner requests a modification of the existing standard to permit an alternative method of compliance for examination of the 1N/3W Area of the Mine due to roof falls shortly after mining at the entrance of the abandoned 1N/3W panel area petitioner avers that this activity has made sealing the panel virtually impossible, and to construct seals to close off the entire area from the 1W3B tail area to the mouth of the 1N/3W would expose workers to hazardous conditions. The petitioner states that to examine the 1N/3W air course from the 1W3B tail area to the west side of the existing 1N/3W seals would be hazardous. The petitioner proposes to: (1) Establish an inlet evaluation point in the affected area of the mine as “Intake EP,” which will be evaluated by a certified person on a weekly basis; (2) establish two (2) outlet evaluation points in the affected area as “Permanent Outlet EP,” which will be evaluated by a certified person on a weekly basis; and (3) within 60 days submit revisions of its Part 48 training plan to the District Manager that includes initial and refresher training to comply with the final order. The petitioner states that the proposed alternative method of compliance provides a measure of protection equal to that of the standard. The petitioner also states that traveling the affected area of the air courses in their entirety would present a hazard to the miners because of exposure to the deteriorating roof conditions and limited access and result in a diminution of safety.

3. Wabash Mine Holding Company

[Docket No. M-2006-045-C]

Wabash Mine Holding Company, Three Gateway Center, Suite 1340, 401 Liberty Avenue, Pittsburgh, Pennsylvania 15222 has filed a petition to modify the application of 30 CFR 75.364(b)(1) and (b)(4) (Weekly examination) to its Wabash Mine, Main East Seals Area of the Mine (MSHA I.D. No. 11-00877) located in Wabash County, Illinois. The petitioner requests a modification of the existing standard to permit an alternative method of compliance for examination of the certain areas of the Mine that have been sealed off, known as the Main East Seals, due to roof falls. The petitioner states that the air that passes by these seals do not ventilate any working section but rather it flows to a nearby return air shaft. Further, petitioner states that roof falls have occurred in several of the airways that formerly provided access to the seals, and the remaining entries that provided access to the seals have deteriorating roof conditions and hinders safe access to the seals. The petitioner proposes to: (1) Establish a permanent monitoring station to permit monitoring of the air for oxygen and methane after it passes through the hazardous roof areas at the Main East. The monitoring stations will be linked to the mine's approved mine-wide monitoring system and located in the area of the “Permanent Outby EP”; (2) evaluate the air that passes the seals by a certified person on a weekly basis before it reaches the seals in the area of the location shown as “Intake EP” on the attached map; and (3) within 60 days submit revisions of its Part 48 training plan to the District Manager that includes initial and refresher training to comply with the final order. The petitioner asserts that inspection of the air course would result in a diminution of safety to the miners and that the proposed alternative method of compliance provides a measure of protection equal to that of the standard.

4. Wabash Mine Holding Company

[Docket No. M-2006-046-C]

Wabash Mine Holding Company, Three Gateway Center, Suite 1340, 401 Liberty Avenue, Pittsburgh, Pennsylvania 15222 has filed a petition to modify the application of 30 CFR 75.364(b)(2) (Weekly examination) to its Wabash Mine, Main West and 2 South/3 West Areas of the Mine (MSHA I.D. No. 11-00877) located in Wabash County, Illinois. The petitioner requests a modification of the existing standard to permit an alternative method of compliance for examination of the Main West Returns and 2 South/3 West Returns. The petitioner states that roof falls in conjunction with deteriorating roof conditions have made examining the air courses known as the Main West Returns and 2 South/3 West Returns a hazard to travel in their entirety due to the deteriorated roof conditions and limited access. The petitioner proposes to: (1) Establish evaluation points in the affected area which will be evaluated by a certified person on a weekly basis, and (2) within 60 days submit revisions of its Part 48 training plan to the District Manager that includes initial and refresher training to comply with the final order. The petitioner asserts that the proposed alternative method of compliance provides a measure of protection equal to that of the standard and application of the standard results in a diminution of safety.

5. FKZ Coal Company

[Docket No. M-2006-047-C]

FKZ Coal Company, P.O. Box 62, Locust Gap, Pennsylvania 17840 has filed a petition to modify the application of 30 CFR 75.1714-2(c) (Self-rescue devices; use requirements) to its No. 1 Slope Mine (MSHA I.D. No. 36-08637) located in Northumberland County, Pennsylvania. The petitioner requests a modification of the existing standard to permit self-contained self-rescue (SCSR) devices to be stored within 200 feet of the working face. The petitioner states that in steeply pitching, conventional anthracite mines, entries are advanced as far as 200 feet vertically, which exposes the miner to trip and fall hazards. The petitioner further states that the necessity of carrying supplies up narrow entries while wearing the SCSRs, may result in damage to the SCSR and also may result in a diminution of safety to the miner. The petitioner also states that the method proposed would in no way provide less than the same measure of protection than that afforded miners under the existing standard.

6. FKZ Coal Company

[Docket No. M-2006-049-C]

FKZ Coal Company, P.O. Box 62, Locust Gap, Pennsylvania 17840 has filed a petition to modify the application of 30 CFR 75.381(c)(5) (Escapeways; anthracite mines) to its No. 1 Slope Mine (MSHA I.D. No. 36-08637) located in Northumberland County, Pennsylvania. The petitioner requests a modification of the existing standard to eliminate the requirement to use a continuous directional lifeline at the Orchard Slope Mine. The petitioner states that: (1) The pitching seams in the anthracite coal mines are inherently directional; (2) the entries are either driven horizontal in one direction or vertical with the pitching geology; (3) when entering the mine if the mine roof is on your right side, it is basic knowledge to know that when leaving the mine, the mine roof is on your left side; and (4) even if vision is impaired, it is impossible to lose your sense of direction, simply by the location of the roof and rib. The petitioner asserts that application of the existing standard would cause a diminution of safety to the miners because to stretch any type of line across the opening of a vertical entry could result in a tripping hazard with a fall potential in excess of 30 to 60 feet.

7. Tito Coal Company

[Docket No. M-2005-050-C]

Tito Coal Company, 118 Fairview Lane, Williamstown, Pennsylvania 17098 has filed a petition to modify the application of 30 CFR 75.381(c)(5) (Escapeways; anthracite mines) to its No. 2 Slope Mine (MSHA I.D. No. 36-06815) located in Schuylkill County, Pennsylvania. The petitioner requests a modification of the existing standard to eliminate the requirement to use a continuous directional lifeline at the No. 2 Slope Mine. The petitioner states that: (1) The pitching seams in the anthracite coal mines are inherently directional; (2) the entries are either driven horizontal in one direction or vertical with the pitching geology; (3) when entering the mine if the mine roof is on your right side, it is basic knowledge to know that when leaving the mine, the mine roof is on your left side; and (4) even if vision is impaired, it is impossible to lose your sense of direction, simply by the location of the roof and rib. The petitioner asserts that application of the existing standard would cause a diminution of safety to the miners because to stretch any type of line across the opening of a vertical entry could result in a tripping hazard with a fall potential in excess of 30 to 60 feet.

8. Tito Coal Company

[Docket No. M-2006-051-C]

Tito Coal Company, 118 Fairview Lane, Williamstown, Pennsylvania 17098 has filed a petition to modify the application of 30 CFR 75.1714-2(c) (Self-rescue devices; use requirements) to its No. 2 Slope Mine (MSHA I.D. No. 36-06815) located in Schuylkill County, Pennsylvania. The petitioner requests a modification of the existing standard to permit self-contained self-rescue (SCSR) devices to be stored within 200 feet of the working face. The petitioner states that in steeply pitching, conventional anthracite mines, entries are advanced as far as 200 feet vertically. The petitioner states that the miner is exposed to trip and fall hazards and the necessity of carrying supplies up these narrow entries while wearing the SCSRs, may result in damage to the SCSR and in a diminution of safety to the miner.

9. D & D Coal Company

[Docket No. M-2006-053-C]

D & D Coal Company, 409 W. Centre Street, Donaldson, Pennsylvania 17981 has filed a petition to modify the application of 30 CFR 75.381(c)(5) (Escapeways; anthracite mines) to its Primrose Slope Mine (MSHA I.D. No. 36-08341) located in Schuylkill County, Pennsylvania. The petitioner requests a modification of the existing standard to eliminate the requirement to use a continuous directional lifeline at the Primrose Slope Mine. The petitioner states that: (1) The pitching seams in the anthracite coal mines are inherently directional; (2) the entries are either driven horizontal in one direction or vertical with the pitching geology; (3) when entering the mine if the mine roof is on your right side, it is basic knowledge to know that when leaving the mine, the mine roof is on your left side; and (4) even if vision is impaired, it is impossible to lose your sense of direction, simply by the location of the roof and rib. The petitioner asserts that application of the existing standard would cause a diminution of safety to the miners because to stretch any type of line across the opening of a vertical entry could result in a tripping hazard with a fall potential in excess of 30 to 60 feet.

10. D & D Coal Company

[Docket No. M-2006-054-C]

D & D Coal Company, 409 W. Centre Street, Donaldson, Pennsylvania 17981 has filed a petition to modify the application of 30 CFR 75.1714-2(c) (Self-rescue devices; use requirements) to its Primrose Slope Mine (MSHA I.D. No. 36-08341) located in Schuylkill County, Pennsylvania. The petitioner requests a modification of the existing standard to permit self-contained self-rescue (SCSR) devices to be stored within 200 feet of the working face. The petitioner states that in steeply pitching, conventional anthracite mines, entries are advanced as far as 200 feet vertically. The petitioner states that the miner is exposed to trip and fall hazards and the necessity of carrying supplies up these narrow entries while wearing the SCSRs, may result in damage to the SCSR and in a diminution of safety to the miner.

11. Usibelli Coal Mine, Inc.

[Docket No. M-2006-056-C]

Usibelli Coal Mine, Inc., P.O. Box 1000, Healy, Alaska 99743 has filed a petition to modify the application of 30 CFR 77.803 (Fail safe ground check circuits on high-voltage resistance grounded systems) to its Usibelli Mine (MSHA I.D. No. 50-00030) located in Yukon-Koyukuk County, Alaska. The petitioner requests a modification of the existing standard to permit an alternative method of compliance when the boom/mast is raised or lowered during construction and repairs/maintenance on a Bucyrus 1300W dragline machine. The petitioner proposes to disable the ground monitoring while lowering and raising the boom as a safer alternative in case it loses power which would cause the boom to fall. The petitioner proposes to use the boom raising/lowering the boom procedures during construction and maintenance while the machine is not in mining operations. The petitioner states that major maintenance requiring the raising/lowering of the boom/mast would only be performed as needed. Petitioner further avers that it will provide review, training, and retraining of the procedures to all persons involved before the boom is raised or lowered because boom lowering/raising is done infrequently with long intervals of time between each occurrence. The petitioner proposes to use the following guidelines to minimize the potential for electrical power loss during the boom lowering/raising procedure: (1) A written procedure will be developed and implemented by the mine operator/contractor that will: (a) Limit the number of persons needed on board the machine during the boom-mast raising/lowering, and only those persons critical to performing necessary functions will be permitted on board the machine; (b) rope off or guard the area around the machine and explain the methods that will be used to prevent off-board persons from contacting the frame or cable of the machine; and (c) prohibit other work activities in close proximity to the machine during the boom/mast operation. The petitioner would establish a responsible person at the work site, and provide enumerated electrical safety precautions. The petitioner asserts that these procedures for raising/lowering the boom will not result in a diminution of safety to the miners.

12. Lane Mountain Silica Company

[Docket No. M-2006-004-M]

Lane Mountain Silica Company, 500 Union Street, Suite 847, Seattle, Washington 98101 has filed a petition to modify the application of 30 CFR 56.9300 (Berms and guardrails) to its Lane Mountain Silica Mine (MSHA I.D. No. 45-00983) located in Stevens County, Washington. The petitioner requests a modification of the existing standard for berms on elevated roadways to and from quarries of the Lane Mountain Silica Mine where drop-offs of sufficient grad exist to cause a vehicle to overturn or endanger individuals operating equipment. The petitioner proposes to enhance its longstanding safety program as an alternate method. The petitioner states that mining and hauling operations are seasonal and no hauling occurs from approximately November through April when the weather conditions are severe. Petitioner also asserts that the roadway is typically clear and dry from May through October when hauling occurs and the equipment operator by the petitioner is street legal and inspected on a daily basis. Petitioner states that it enhanced its safety program by: (1) Installing delineates at approximately 100 feet intervals along the outboard side of the entire roadway; (2) establishing reduced speed limits; and (3) updated its driver safety program. Petitioner states that the existing and enhanced safety requirements for use of the roadway equals or surpasses the existing standard. The petitioner further states that erection of berms would narrow the roadway to a point where safety is detrimentally impacted. The petitioner asserts that the proposed alternative method would provide at least the same measure of protection as the existing standard and that application of the standard would result in a diminution of safety to the miners.

Request for Comments

Persons interested in these petitions are encouraged to submit comments via E-mail to Standards-Petitions@dol.gov Include “petitions for modification” in the subject line of the e-mail. Comments can also be submitted by fax, regular mail, or hand-delivery. If faxing your comments, include “petitions for modification” on the subject line of the fax. Comments by regular mail or hand-delivery should be submitted to the Mine Safety and Health Administration, Office of Standards, Regulations, and Variances, 1100 Wilson Boulevard, Room 2350, Arlington, Virginia 22209. If hand-delivered, you are required to stop by the 21st floor to check in with the receptionist. All comments must be postmarked or received by the Office of Standards, Regulations, and Variances on or before October 26, 2006. Copies of the petitions are available for inspection at that address.

Dated at Arlington, Virginia this 19th day of September 2006.
Ria Moore Benedict,
Deputy Director, Office of Standards, Regulations, and Variances.

[FR Doc. 06-8246 Filed 9-25-06; 8:45 am]

BILLING CODE 4510-43-P